POSTAL SERVICE

Notice of Changes to Postal Service Standard 4C

AGENCY: Postal Service.

ACTION: Notice of changes.

SUMMARY: The Postal Service has updated the Postal Operation Manual (POM) to revise Standard 4C concerning apartment parcel locker ratios.

DATES: Federal Register Publication: December 18, 2020 to January 19, 2021.

FOR FURTHER INFORMATION CONTACT: Delivery.Growth@usps.gov, Valerie Barksdale, 202-268-2567.

SUPPLEMENTARY INFORMATION: The Postal Service has revised Postal Operations Manual (POM) section 632.622a. These changes revise the parcel locker ratio in apartment community buildings from 10:1 to 5:1.

This change is necessary to accommodate an increase in package volume.

Although, the Postal Service had already made this change to the POM, a solicitation was published in the Federal Register on December 18, 2020 seeking comments from the public concerning this change. The comment period ran from December 18. 2020 to January 19, 2021, and as of that later date, no comments were received.

The Postal Service will continue to apply the POM provision at issue. You may view the changes to the POM at the following website: https://about.usps.com/what-we-are-doing/current-initiatives/delivery-growth-management/section-632.pdf (632.622a).

(Authority: 39 CFR 211.2)

Joshua J. Hofer,
Attorney, Ethics and Legal Compliance.

[FR Doc. 2021-03722 Filed 2-24-21; 8:45 am]

BILLING CODE 7710-12-P